DEPARTMENT OF TRANSPORTATION

Federal Aviation Administration

Deadline for Notification of Intent To Use the Airport Improvement Program (AIP) Primary, Cargo, and Nonprimary Entitlement Funds for Fiscal Year 2010

AGENCY: Federal Aviation Administration, DOT.

ACTION: Notice.

SUMMARY: The Federal Aviation Administration (FAA) announces February 22, 2010, as the deadline for each airport sponsor to notify the FAA whether or not it will use its fiscal year 2010 entitlement funds available under Public Law No. 111-117 to accomplish Airport Improvement Program (AIP)-eligible projects that the sponsor previously identified through the Airports Capital Improvement Plan (ACIP) process during the preceding year. If a sponsor does not declare their intention regarding their fiscal year 2010 entitlement funds by February 22, 2010, FAA will be unable to take the necessary actions to award these funds, nor designate these funds as “protected” carryover funds. In addition, these funds will not be carried over without a legislative enactment that provides an additional AIP authorization and an extension of the FAA's spending authority from the Airport and Airway Trust Fund beyond March 31, 2010.

FOR FURTHER INFORMATION CONTACT: Mr. Frank J. San Martin, Manager, Airports Financial Assistance Division, APP-500, on (202) 267-3831.

SUPPLEMENTARY INFORMATION: Title 49 of the United States Code, section 47105(f), provides that the sponsor of each airport to which funds are apportioned shall notify the Secretary by such time and in a form as prescribed by the Secretary, of the sponsor's intent to apply for the funds apportioned to it (entitlements). This notice applies only to those airports that have had entitlement funds apportioned to them, except those nonprimary airports located in designated Block Grant States. Sponsors intending to apply for any of their available entitlement funds, including those unused from prior years, shall submit by February 22, 2010, a written indication to the designated Airports District Office (or Regional Office in regions without Airports District Offices) that they will submit a grant application prior to February 26, 2010, or by a prior date established by the designated Airport District or Regional Office.

This notice is promulgated to expedite and prioritize the grant-making process. In the past when there has been full-year funding for AIP, the FAA has established a deadline of May 1 for an airport sponsor to declare whether it will apply for, or defer use of its entitlement funding. Considering that Congress has authorized the AIP program only until March 31, 2010, i.e. into the middle of a fiscal year, the FAA is establishing February 22, 2010, as the deadline for each airport sponsor to notify the FAA whether or not it will use its fiscal year 2010 entitlement funds.

The AIP grant program is operating under the requirements of Public Law No. 111-116, the “Federal Aviation Administration Extension Act, Part II”, enacted on December 16, 2009, which amends 49 U.S.C. 48103, to extend AIP for a six-month period beginning October 1, 2008 and ending on March 31, 2010. The FAA's expenditure authority from the Airport and Airway Trust Fund will also expire on March 31, 2010, in the absence of an additional statutory extension. Therefore, to avoid the risk of not being able to carryover funds if an additional extension is not enacted, and to allow sufficient time for accounting processing, AIP funds should be obligated in FAA's accounting records on or before March 3, 2010.

Sponsors have three options available regarding AIP grants during this period. First, sponsors may elect to make an application for a grant based on entitlements currently available to them. Sponsors that elect to take such a grant must submit grant applications to the FAA no later than February 26, 2010, in order to meet the March 3, 2010 obligation deadline. Second, sponsors may elect to wait until after the February 22, 2010 notification date for protection of carryover entitlements. However, if a sponsor does not declare their intention regarding the use of fiscal year 2010 entitlement funds by the February 22, 2010 deadline, FAA will be unable to take the necessary actions to designate these as “protected” carryover funds. In addition, these funds would not be carried over without a legislative enactment that provides additional AIP authorization for fiscal year 2010 and extends the FAA's spending authority from the Airport and Airway Trust Fund beyond March 31, 2010. Third, sponsors may elect to declare their intention to carryover the entitlements by sending written notification of such intention by February 22, 2010. Unused carryover entitlements that have been deferred will be available in fiscal year 2011 pending legislative action to further extend authorization and appropriations.

If a statutory extension beyond March 31, 2010 of the AIP program and the FAA's authority to make expenditures from the Trust Fund is enacted, additional entitlement funds may be available to sponsors. In that case, airport sponsors who did not previously declare their intention to carryover the entitlements must provide a written indication by May 1, 2010 to the designated Airports District Office (or Regional Office in regions without Airports District Offices) that they will either carryover or use their fiscal year 2010 entitlements by submitting a grant application by August 1, 2010.

Issued in Washington, DC on January 6, 2010.
Frank J. San Martin,
Manager, Airports Financial Assistance Division, Office of Airport Planning and Programming.

[FR Doc. 2010-1291 Filed 1-22-10; 8:45 am]

BILLING CODE 4910-13-P